DEPARTMENT OF TRANSPORTATION

Federal Aviation Administration

14 CFR Part 71

[Docket No. FAA-2025-5571; Airspace Docket No. 25-AWP-172]

RIN 2120-AA66

Amendment of Class D and Establishment of Class E Airspace; Chandler and Phoenix, AZ

AGENCY: Federal Aviation Administration (FAA), DOT.

ACTION: Notice of proposed rulemaking (NPRM).

SUMMARY: This action proposes to amend the Class D airspace and establish Class E airspace at Chandler and Phoenix, AZ. The name and geographic coordinates of the Mesa Gateway Airport, Phoenix, AZ, would also be updated to coincide with the FAA's aeronautical database. The FAA is proposing this action due to biennial airspace reviews, to support instrument flight rule (IFR) operations, and to bring the airspace into compliance with FAA orders.

DATES: Comments must be received on or before February 2, 2026.

ADDRESSES: Send comments identified by FAA Docket No. FAA-2025-5571 and Airspace Docket No. 25-AWP-172 using any of the following methods:

* Federal eRulemaking Portal: Go to www.regulations.gov and follow the online instruction for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to Docket Operations in Room W12-140 of the West Building Ground Floor at 1200 New Jersey Avenue SE, Washington, DC, between 9 a.m. and 5 p.m., Monday through Friday, except Federal holidays.

FAA Order JO 7400.11K, Airspace Designations and Reporting Points, and subsequent amendments can be viewed online at www.faa.gov/air_traffic/publications/. You may also contact the Rules and Regulations Group, Office of Policy, Federal Aviation Administration, 600 Independence Avenue SW, Washington, DC 20597; telephone: (202) 267-8783.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it would amend the Class D airspace and establish Class E airspace at the affected airports to support IFR operations.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it received on or before the closing date for comments. The FAA will consider comments filed after the comment period has closed if it is possible to do so without incurring expense or delay. The FAA may change this proposal in light of the comments it receives.

Privacy: In accordance with 5 U.S.C. 553(c), DOT solicits comments from the public to better inform its rulemaking process. DOT post these comments, without edit, including any personal information the commenter provides, to www.regulations.gov as described in the system of records notice (DOT/ALL-14FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received, and any final disposition in person in the Dockets Office (see the ADDRESSES section for the address, phone number, and hours of operations). An informal docket may also be examined during normal business hours at the Federal Aviation Administration, Air Traffic Organization, Central Service Center, Operations Support Group, 10101 Hillwood Parkway, Fort Worth, TX 76177.

Incorporation by Reference

Class D and Class E airspace are published in paragraphs 5000 and 6005 of FAA Order JO 7400.11, Airspace Designations and Reporting Points, which is incorporated by reference in 14 CFR 71.1 on an annual basis. This document proposes to amend the current version of that order, FAA Order JO 7400.11K, dated August 4, 2025, and effective September 15, 2025. These updates would be published subsequently in the next update to FAA Order JO 7400.11. FAA Order JO 7400.11K, which lists Class A, B, C, D, and E airspace areas, air traffic service routes, and reporting points, is publicly available as listed in the ADDRESSES section of this document.

The Proposal

The FAA is proposing an amendment to 14 CFR part 71 that would modify the Class D airspace and establish Class E airspace extending upward from 700 feet above the surface at Chandler, Arizona, and Phoenix, Arizona, due to biennial airspace reviews.

For the Chandler Municipal Airport, Chandler, AZ, Class D airspace the proposal would: (1) increase the radius from 4 miles to 4.8 miles; (2) increase the vertical limit from 3,000 feet MSL to 3,700 feet MSL; (3) remove Williams Gateway Airport and the associated exclusion area as they are no longer required; (4) add an exclusion area west of 111°53′41″ W; (5) update the airspace legal description header from “Chandler Municipal Airport, AZ” to “Chandler, AZ” to comply with changes to FAA Order JO 7400.2R, Procedures for Handling Airspace Matters; and (6) update the outdated term of “Airport/Facility Directory” to “Chart Supplement.”

For the Mesa Gateway Airport, Phoenix, AZ, the proposal would: (1) increase the radius from 5 miles to 5.4 miles; (2) add an exclusion area for the Chandler Municipal Airport Class D airspace; (3) add an exclusion area within a 1.2-mile radius of Pegasus Airpark, Queen Creek, AZ; (4) update the name of the airport from Williams Gateway Airport to Mesa Gateway Airport and update the geographic coordinates of the airport to coincide with the FAA's aeronautical database; (5) update the airspace legal description header from “Chandler, AZ” to “Phoenix, AZ” to coincide with the FAA's aeronautical database; and (6) update the outdated term of “Airport/Facility Directory” to “Chart Supplement.”

This action proposes to establish Class E airspace extending upward from 700 feet above the surface at Stellar Airport, Chandler, AZ, within a 13.9-mile radius of the airport.

This action proposes to establish Class E airspace extending upward from 700 feet above the surface at Mesa Gateway Airport, Phoenix, AZ; (1) within a 7.9-mile radius of the airport; (2) within 4 miles northeast and 8 miles southwest of the 136° bearing for the Mesa Gateway: RWY 30C-LOC extending from the 7.9-mile radius of the airport to 17.7 miles southeast of the Mesa Gateway: RWY 30C-LOC; (3) and within 7.9 miles northeast and 4 miles southwest of the 136° bearing from the airport extending from the 7.9-mile radius of the airport to 12.6 miles southeast of the airport.

This action is the result of biennial airspace reviews at these airports, would support IFR operations, and bring the airspace into compliance with current FAA orders.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1G, “FAA National Environmental Policy Act Implementing Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11K, Airspace Designations and Reporting Points, dated August 4, 2025, and effective September 15, 2025, is amended as follows:

Paragraph 5000 Class D Airspace.

AWP AZ D Chandler, AZ [Amended]

Chandler Municipal Airport, AZ

(Lat. 33°16′09″ N, long. 111°48′40″ W)

That airspace extending upward from the surface up to and including 3,700 feet MSL within a 4.8-mile radius of Chandler Municipal Airport, excluding that portion west of latitude 111°53′41″ W. This Class D airspace area is effective during the specific dates and times established in advance by a Notice to Airmen. The effective dates and times will thereafter be continuously published in the Chart Supplement.

* * * * *

AWP AZ D Phoenix, AZ [Amended]

Mesa Gateway Airport, AZ

(Lat. 33°18′28″ N, long. 111°39′20″ W)

Pegasus Airpark, AZ

(Lat. 33°12′31″ N, long. 111°37′02″ W)

That airspace extending upward from the surface to and including 3,900 feet MSL within a 5.4-mile radius of Mesa Gateway Airport, excluding that portion within the Chandler Municipal Airport, Chandler, AZ, Class D airspace; and excluding that portion within a 1.2-mile radius of Pegasus Airpark; and excluding that portion within the Phoenix, AZ, Class B airspace. This Class D airspace area is effective during the specific dates and times established in advance by a Notice to Airmen. The effective dates and times will thereafter be continuously published in the Chart Supplement.

* * * * *

Paragraph 6005 Class E Airspace Areas Extending Upward From 700 Feet or More Above the Surface of the Earth.

* * * * *

AWP AZ E5 Chandler, AZ [Establish]

Stellar Airpark, AZ

(Lat. 33°17′56″ N, long. 111°54′57″ W)

That airspace extending upward from 700 feet above the surface within a 13.9-mile radius of Stellar Airpark.

* * * * *

AWP AZ E5 Phoenix, AZ [Establish]

Mesa Gateway Airport, AZ

(Lat. 33°18′28″ N, long. 111°39′20″ W)

Mesa Gateway: RWY 30C-LOC

(Lat. 33°19′13″ N, long. 111°40′09″ W)

That airspace extending upward from 700 feet above the surface within a 7.9-mile radius of Mesa Gateway Airport; and within 4 miles northeast and 8 miles southwest of the 136° bearing from the Mesa Gateway: RWY 30C-LOC extending from the 7.9-mile radius of the Mesa Gateway Airport to 17.7 miles southeast of the Mesa Gateway: RWY 30C-LOC; and within 7.9 miles northeast and 4 miles southwest of the 136° bearing from the Mesa Gateway Airport extending from the 7.9-mile radius of Mesa Gateway Airport to 12.6 miles southeast of the Mesa Gateway Airport.

* * * * *

Issued in Fort Worth, Texas, on December 16, 2025.
Jerry J. Creecy,
Acting Manager, Operations Support Group, ATO Central Service Center.

[FR Doc. 2025-23273 Filed 12-17-25; 8:45 am]

BILLING CODE 4910-13-P